DEPARTMENT OF THE INTERIOR

National Park Service

[NPS-NCRO-MONO-0811-7948; 3130-SZM]

Notice of a Record of Decision; Monocacy National Battlefield

AGENCY: National Park Service, Interior.

ACTION: Notice of a Record of Decision on the Final Environmental Impact Statement for the General Management Plan, Monocacy National Battlefield.

SUMMARY: Pursuant to the National Environmental Policy Act of 1969 (NEPA), 42 U.S.C. 4332(2)(C), the National Park Service (NPS) announces the availability of the Record of Decision for the General Management Plan, Monocacy National Battlefield. Maryland. As soon as practicable, the NPS will begin to implement the preferred alternative as contained in the Final Environmental Impact Statement issued by the NPS on August 27, 2010, and summarized in the Record of Decision. Copies of the Record of Decision may be obtained from the contact listed below or online at www.nps.gov/mono.

FOR FURTHER INFORMATION CONTACT: David Hayes, National Park Service, 1100 Ohio Drive SW, Washington, DC 20242, (202) 619-7277, DavidHayes@nps.gov.

SUPPLEMENTARY INFORMATION: The Record of Decision includes a statement of the decision made, synopses of other alternatives considered, the basis for the decision, a description of the environmentally preferable alternative, a finding on impairment of park resources and values, a listing of measures to minimize environmental harm and an overview of public involvement in the decision-making process.

Alternative 4 is the Selected Alternative. The following course of action will occur under Alternative 4:

All historic structures will be preserved and maintained, and the historic farmlands will continue to be leased to retain their use in agriculture. The outbuildings on the Best Farm will remain open. The Worthington House will be rehabilitated inside and be open to visitors with exhibits.

Monocacy National Battlefield administration will be moved into the rehabilitated Thomas House. The stone tenant house on the Thomas farm will contain exhibits and restrooms. Monocacy National Battlefield maintenance will continue to operate from its current location in a nonhistoric structure near the Gambrill Mill and be redesigned to meet the needs for office, vehicle storage, and work space.

Three nonhistoric structures will be removed from the landscape—two structures are houses constructed of cinderblocks, and the third is a historic toll house that was moved to the site from its original location. It is in severely deteriorated condition and lacks integrity, and its proximity to the intersection of Araby Church Road and Maryland Highway 355 (MD-355) makes it a safety concern.

The entrance to the 14th New Jersey Monument will be shifted south to allow better sight distances entering and exiting MD-355. An existing informal parking area on the east side of MD-355 used by fishermen will be closed and the area relandscaped. River access will continue from the 14th New Jersey Monument parking area. A landscaped commemorative area will be created at the site of the Pennsylvania and Vermont Monuments as a location for any new memorials that may be added to the Monocacy National Battlefield in the future.

Visitors will use their own vehicles to drive around the Monocacy National Battlefield using existing roadways (Baker Valley Road, Araby Church Road, and MD-355). The possibility of a pedestrian deck spanning Interstate 270 (I-270) is being evaluated in consultation with the Maryland Department of Transportation (MDOT) as mitigation for MDOT widening of I-270 through the Monocacy National Battlefield. If the deck proves feasible and if an agreement can be worked out, it will provide a trail spanning I-270 that connects the Worthington and Thomas farms.

A new trail extension of the Gambrill Mill Trail will enable visitors to walk to the railroad junction and on to the sites of the Union entrenchments and Wallace's headquarters, all important interpretive locations within the Monocacy National Battlefield. Upgraded interpretation using new signs, wayside markers and brochures will be developed. Natural resource areas along rivers and drainages and along the heights behind the Worthington farmhouse will remain undeveloped and protected.

This course of action and three alternatives were analyzed in the Draft and Final Environmental Impact Statements. Three actions were key in the decision to make Alternative 4 the selected alternative.

First, moving the maintenance and administrative functions from the park into rental space in nearby Frederick, as would have occurred in Alternative 2, would have allowed the removal of the existing metal maintenance structure from the battlefield landscape and the commercial leasing of the Thomas House. However, this would have increased the amount of driving by park staff on busy MD-355 and would have unduly separated park staff from the resources managed and interpreted. It would also have placed a commercial use within the heart of the national battlefield (the lease of the Thomas House).

Second, an alternative transportation system in Alternative 2 would have decreased visitor driving within the park, made visitor access to park areas safer by obviating the use of busy MD-355, and decreased the size of parking areas at each site. This system weighed heavily in the selection of Alternative 2 as the environmentally preferable alternative. However, current visitation does not make such a system financially feasible as a commercial operation and there is no guarantee that such a system would be financially feasible in the future. Both Alternatives 3 and 4 utilize personal vehicles to access the park.

Third, Alternatives 2 and 4 include a connection of the Thomas and Worthington farms via a deck over I-270, while Alternative 3 does not. A connection of the two farms is an important interpretive tool allowing visitors and park staff to easily move back and forth between the two properties.

As a result Alternative 4 was selected to better connect park staff to the resource, (2) to more fully consider the financial feasibility of alternative transportation at this time, and (3) to ensure the connection of the Thomas and Worthington farms both physically and interpretively.

The full range of foreseeable environmental consequences was assessed, and appropriate mitigating measures were identified.

The Regional Director, National Capital Region approved the Record of Decision for the project on November 16, 2010. The official primarily responsible for implementing the General Management Plan is the Superintendent of Monocacy National Battlefield.

Dated: July 22, 2011.
Stephen E. Whitesell,
Regional Director, National Capital Region.

[FR Doc. 2012-7719 Filed 3-30-12; 8:45 am]

BILLING CODE 4312-57-P